DEPARTMENT OF DEFENSE

Department of the Navy

Notice of Intent To Grant Exclusive Patent License; Environics, Inc.

AGENCY: Department of the Navy, DOD.

ACTION: Notice.

SUMMARY: The Department of the Navy hereby gives notice of its intent to grant to Environics, Inc., a revocable, nonassignable, exclusive license in the United States and certain foreign countries to practice the Government-owned invention, described in U.S. Patent Application Serial No. 09/275,272 (Navy Case No. 79,555) filed March 23, 1999, entitled “Atmospheric Ozone Concentration Detector”.

DATES: Anyone wishing to object to the grant of this license must file written objections along with supporting evidence, if any, not later than June 19, 2001.

ADDRESSES: Written objections are to be filed with the Naval Research Laboratory, Code 1004, 4555 Overlook Avenue, SW., Washington, DC 20375-5320.

FOR FURTHER INFORMATION CONTACT: Catherine M. Cotell, Ph.D., Head, Technology Transfer Office, NRL Code 1004, 4555 Overlook Avenue, SW., Washington, DC 20375-5320, telephone (202) 767-7230.

(Authority: 35 U.S.C. 207, 37 CFR Part 404.)
Dated: April 11, 2001.
C.G. Carlson,
Major, U.S. Marine Corps, Alternate Federal Register Liaison Officer.

[FR Doc. 01-9773 Filed 4-19-01; 8:45 am]

BILLING CODE 3810-FF-P